DEPARTMENT OF JUSTICE

Notice of Lodging of Consent Decree Under the Comprehensive Environmental Response, Compensation and Liability Act

Notice is hereby given that on June 25, 2009, a proposed Consent Decree in United States of America et al. v. Saturn Chemicals, Inc., et al., Civil Action No. 08-3537 was lodged with the United States District Court for the District of New Jersey.

The Consent Decree resolves claims under CERCLA Section 107(a)(2), as alleged in a Complaint filed July 14, 2008 against Saturn Chemicals, Inc., PolySat, Inc., and Darryl Manuel (the “Saturn Defendants”), as well as third-party claims against two third-party defendants. Under the settlement, the Saturn Defendants will pay to the United States $550,000 plus interest, third-party defendant Township of Lawrence will pay to the United States $60,000 plus interest in two installments, and third-party defendant Mercer Wrecking and Recycling Corporation will pay to the United States $140,000 plus interest up to a total of $145,000.

The Department of Justice will receive for a period of thirty (30) days from the date of this publication comments relating to the Decree. Comments should be addressed to the Assistant Attorney General, Environmental and Natural Resources Division, and either e-mailed to pubcomment-ees.enrd@usdoj.gov or mailed to P.O. Box 7611, U.S. Department of Justice, Washington, DC 20044-7611, and should refer to United States of America et al. v. Saturn Chemicals, Inc., et al., Civil Action No. 08-3537 (D. NJ), D.J. Ref. 90-11-3-09114.

The Decree may be examined at the Office of the United States Attorney, District of New Jersey, Peter Rodino Federal Building, 970 Broad Street, Suite 700, Newark, NJ 07102. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $23.25 (25 cents per page reproduction cost) payable to the U.S. Treasury or, if by e-mail or fax, forward a check in that amount to the Consent Decree Library at the stated address.

Maureen Katz,
Assistant Section Chief, Environmental Enforcement Section, Environment and Natural Resources Division.

[FR Doc. E9-15503 Filed 6-30-09; 8:45 am]

BILLING CODE 4410-15-P